DEPARTMENT OF JUSTICE

[CPCLO Order No. 002-2011]

Privacy Act of 1974; System of Records

AGENCY: Federal Bureau of Investigation, Department of Justice.

ACTION: Notice to remove one system of records and modify another system of records.

SUMMARY: The Federal Bureau of Investigation (FBI) proposes to delete “FBI Automated Payroll Records, Justice/FBI-007,” published at 58 FR 51874 (Oct. 5, 1993), from its existing inventory because this system of records has been made obsolete by virtue of an amendment to the “Department of Justice Payroll System, Justice/JMD-003,” published at 72 FR 51663 (Sept. 10, 2007), which added FBI employees to this DOJ system.

The FBI also is modifying another system notice, the “Time Utilization Recordkeeping System (TURK), Justice/FBI-012,” last published in full at 58 FR 51876 (Oct. 5, 1993), and revised to incorporate the FBI Blanket Routine Uses (the FBI “Blanket Routine Uses” notice was originally published at 66 FR 33558 (June 22, 2001), and was updated at 70 FR 7513 (Feb. 14, 2005) and 72 FR 3410 (Jan. 25, 2007)). TURK is the method by which the FBI tracks the workload of its employees and certain individuals under its supervision, such as task force officers. The data, which reflects work hours, direct agent work years, direct support work years, and average on board figures, is assigned to an investigative classification according to the nature of the case for which the work was performed. Tracking workload assists the FBI in ascertaining resource use and identifying trends. In addition, the information gained from TURK is used to formulate budget requests and provide reports to FBI oversight authorities. Workload measurement is particularly useful in the FBI because many Special Agents routinely work more than one program and TURK allows for a more accurate picture of work performed by case classification.

The FBI is modifying all sections of this notice, and is also reiterating the incorporation of the FBI BRUs expressly as part of this system notice because the entire notice is being republished. While the FBI BRUs provide necessary flexibility in disseminating records from the system, FBI notes that in most instances when TURK data is shared outside the Bureau, the data does not include personal identifiers. This notice replaces the previously published notice for TURK.

DATES: In accordance with 5 U.S.C. 552a(e)(4) and (11), the public is given a 30-day period in which to comment. Therefore, please submit any comments by November 21, 2011.

ADDRESSES: The public, Office of Management and Budget (OMB), and Congress are invited to submit any comments to the Department of Justice, ATTN: Privacy Analyst, Office of Privacy and Civil Liberties, Department of Justice, National Place Building, 1331 Pennsylvania Avenue, NW., Suite 1070, Washington, DC 20530-0001, or by facsimile at 202-307-0693.

FOR FURTHER INFORMATION CONTACT: Elizabeth Withnell, Supervisory Attorney-Advisor, Privacy and Civil Liberties Unit, Office of the General Counsel, Federal Bureau of Investigation, 935 Pennsylvania Avenue, NW., Washington, DC 20535-0001.

In accordance with 5 U.S.C. 552a(r), the Department has provided a report to OMB and the Congress on the modification of the system of records.

Dated: September 9, 2011.
Nancy C. Libin,
Chief Privacy and Civil Liberties Officer, United States Department of Justice.

JUSTICE/FBI-012

SYSTEM NAME:

Time Utilization Recordkeeping System (TURK).

SECURITY CLASSIFICATION:

Classified.

SYSTEM LOCATION:

Records may be maintained at any location at which the Federal Bureau of Investigation (FBI) operates or at which FBI operations are supported, including: J. Edgar Hoover Building, 935 Pennsylvania Ave., NW., Washington, DC 20535-0001, FBI Academy and FBI Laboratory, Quantico, VA 22135; FBI Criminal Justice Information Services (CJIS) Division, 1000 Custer Hollow Rd., Clarksburg, WV 26306; and FBI field offices, legal attaches, information technology centers, and other components listed on the FBI's Internet Web site, http://www.fbi.gov. Some or all system information may also be duplicated at other locations for purposes of system backup, emergency preparedness, and/or continuity of operations.

CATEGORIES OF INDIVIDUALS COVERED BY THE SYSTEM:

Former and current FBI employees and individuals who perform work under the supervision of the FBI who are required to keep track of workload in TURK, including: Special Agents; Financial Assistants/Financial Analysts; Investigative Specialists; Language Specialists; Intelligence Analysts; Forensic Examiners; Surveillance Specialists; and Task Force Officers.

CATEGORIES OF RECORDS IN THE SYSTEM:

TURK contains bi-weekly time utilization data of the individuals listed above. The data includes name and Social Security Number (SSN) of these individuals. SSNs are used to distinguish between individuals with similar names.

AUTHORITY FOR MAINTENANCE OF THE SYSTEM:

31 U.S.C. 3512(b); 5 U.S.C. 301; 44 U.S.C. 3101.

PURPOSE:

The TURK system is maintained for the purpose of tracking FBI workload, and for providing reports both internally and externally that reflect personnel utilization by investigative classification.

ROUTINE USES OF RECORDS MAINTAINED IN THE SYSTEM, INCLUDING CATEGORIES OF USERS AND THE PURPOSES OF SUCH USES:

In addition to those disclosures generally permitted under 5 U.S.C. 552a (b), the records or information in this system may be disclosed as a routine use under 5 U.S.C. 552a(b)(3) as follows:

A. In accordance with applicable blanket routine uses established for FBI record systems. See “Blanket Routine Uses (BRU) Applicable to More Than One FBI Privacy Act System of Records, Justice/FBI-BRU,” published on June 22, 2001, at 66 FR 33558 and amended on February 14, 2005, at 70 FR 7513, and on January 25, 2007, at 72 FR 3410.

B. To appropriate entities for the purpose of producing and sharing outside the FBI cost accounting reports reflecting use of personnel.

DISCLOSURE TO CONSUMER REPORTING AGENCIES:

None.

POLICIES AND PRACTICES FOR STORING, RETRIEVING, ACCESSING, RETAINING, AND DISPOSING OF RECORDS IN THE SYSTEM:

STORAGE:

Information maintained in the system is stored electronically on magnetic tapes and disks for use in a computer environment. Older records may be maintained in paper form. Paper records are stored in file folders within file cabinets.

RETRIEVABILITY:

Information is retrieved by name and/or social security number.

SAFEGUARDS:

System records are maintained in limited access space in FBI-controlled facilities and offices. Computerized data is password protected. All FBI personnel, including contractors performing work on the system, are required to pass an extensive background investigation. Access to computerized records is limited to those employees and contractors who have agreed to the FBI's rules of behavior for information technology systems. The information is accessed only by authorized FBI personnel or non-FBI personnel properly authorized to assist in the conduct of an agency function related to these records. Paper records are stored in locked GSA-approved storage containers.

RETENTION AND DISPOSAL:

Records are retained during their useful life in accordance with records retention schedules approved by the National Archives and Records Administration.

SYSTEMS MANAGER(S) AND ADDRESS:

Director, Federal Bureau of Investigation, 935 Pennsylvania Avenue, NW., Washington, DC 20535-0001.

NOTIFICATION PROCEDURES:

Same as Record Access Procedures, below.

RECORD ACCESS PROCEDURES:

Individuals who are required to report TURK hours may obtain copies of their own data from the Service Support Technician assigned to their location. Alternatively, record requests can be submitted in writing, with the envelope and the letter clearly marked “Privacy Act Request.” Full name and complete address should be included in the request. The requester must sign the request and verify it, either by having the signature notarized or submitted under 28 U.S.C. 1746, a law that permits statements to be made under penalty of perjury as a substitute for notarization. Requests for access to information must be addressed to the Record Information Dissemination Section, Federal Bureau of Investigation, 935 Pennsylvania Ave., NW., Washington, DC 20535-0001.

CONTESTING RECORD PROCEDURES:

To contest or amend information maintained in the system, an individual should follow the procedures in Record Access Procedures and state clearly and concisely what information is being contested, the reasons for contesting it, and the proposed amendment to the information sought.

RECORD SOURCE CATEGORIES:

Information is derived from individuals who currently use or in the past have used the system to record their workload.

EXEMPTIONS CLAIMED FOR THE SYSTEM:

None.

[FR Doc. 2011-27281 Filed 10-20-11; 8:45 am]

BILLING CODE 4410-02-P